ENVIRONMENTAL PROTECTION AGENCY

[FRL-9967-32-Region 9]

Notice of Final Agency Action To Issue a Prevention of Significant Deterioration Non-Applicability Determination for Tesoro Refining and Marketing for Further Integration of Its Carson and Wilmington Facilities

AGENCY: Region 9, United States Environmental Protection Agency (EPA).

ACTION: Notice of final agency action.

SUMMARY: This notice announces that the EPA issued a final agency action for a Clean Air Act Prevention of Significant Deterioration (PSD) Non-Applicability Determination to Tesoro Refining & Marketing Company LLC (Tesoro) for further integration of its Carson and Wilmington facilities in California's South Coast Air Basin. Tesoro has termed its construction project the Los Angeles Refinery Integration and Compliance (LARIC) Project. Tesoro intends to shut down certain units, modify other units and construct new units to facilitate physically connecting the two refineries to improve efficiency and comply with EPA's Tier 3 Gasoline regulations. In its Non-Applicability Determination, the EPA determined that the LARIC Project is a not a major PSD modification.

DATES: The PSD Non-Applicability Determination issued on June 20, 2017 was a final agency action. Pursuant to section 307(b)(1) of the Clean Air Act, 42 U.S.C. 7607(b)(1), judicial review of this final agency action may be sought by filing a petition for review in the United States Court of Appeals for the Ninth Circuit within 60 days of September 15, 2017.

ADDRESSES: Copies of documents relevant to the above-referenced action are available electronically at the following Web site: https://www.epa.gov/caa-permitting/tesoro-los-angeles-refinery-integration-and-compliance-project. See For Further Information Contact to arrange for viewing of these documents.

FOR FURTHER INFORMATION CONTACT: La Weeda Ward, Permits Office (Air-3), U.S. Environmental Protection Agency, Region 9, (213) 244-1812, ward.laweeda@epa.gov.

NOTICE OF FINAL ACTION: On June 20, 2017, EPA notified Tesoro that based on our review of its PSD Non-Applicability Analysis, the LARIC Project is not a major modification that requires a PSD permit under 40 CFR 52.21.

Dated: August 24, 2017.
Elizabeth J. Adams,
Acting Director, Air Division, Region IX.

[FR Doc. 2017-19701 Filed 9-14-17; 8:45 am]

BILLING CODE 6560-50-P